DEPARTMENT OF DEFENSE

Department of the Army

Board of Visitors, United States Military Academy

AGENCY: United States Military Academy, Army, DOD.

ACTION: Notice of open meeting.

SUMMARY: In accordance with section 10(a)(20) of the Federal Advisory Committee Act (P.L. 92-463), announcement is made of the following meeting.

Name of Committee: Board of Visitors, United States Military Academy.

Date of Meeting: 9 May 2001.

Place of Meeting: Veteran Affairs Conference Room, Room 418, Senate Russell Office Bldg., Washington, DC.

Start Time of Meeting: Approximately 9:30 A.M.

FOR FURTHER INFORMATION CONTACT: For further information contact Lieutenant Colonel Edward C. Clarke, United States Military Academy, West Point, NY 10996-5000, (845) 938-4200.

SUPPLEMENTARY INFORMATION: Proposed Agenda: Spring Meeting of the Board of Visitors. All proceedings are open.

Luz D. Ortiz,
Army Federal Register Liaison Officer.

[FR Doc. 01-10015 Filed 4-23-01; 8:45 am]

BILLING CODE 3770-08-M